DEPARTMENT OF AGRICULTURE

Forest Service

DEPARTMENT OF THE INTERIOR

Bureau of Land Management

Manti-La Sal National Forest and Utah State Office/Price Field Office; Flat Canyon Coal Lease Track, UTU-77114 Sanpete County, UT; Notice of Intent To Prepare an Environmental Impact Statement

AGENCY: Forest Service, USDA and Bureau of Land Management, USDI.

ACTION: Notice of intent to prepare an Environmental Impact Statement.

SUMMARY: The Forest Service and Bureau of Land Management (BLM) will jointly prepare an Environmental Impact Statement (EIS) to document the analysis and disclose the environmental and human effects of proposed actions to offer the Flat Canyon Coal Lease Tract (UTU-77114) for competitive leasing in accordance with 43 CFR 3425. The Office of Surface Mining Reclamation and Enforcement will participate as a cooperating agency.

The coal lease tract to be considered for leasing, as delineated by the Interagency Tract Delineation Team, encompasses 2,692.16 areas of Federal coal lands on the Manti-La Sal National Forest as follows:

T. 13 S., R. 6 E., SLM

Section 21, lots 1-4, E½E½,

Section 28, lots 1-8, S½NW¼,SW¼;

Section 33, E½, E½W½, NW¼NW¼, SW¼SW¼.

T. 14 S., R. 6 E., SLM

Section 4, lots 1-4, S½N½,S½;

Section 5, lots 1-4, S½N½,S½.

Additions and/or deletions to the delineated tract may be considered as alternatives to the proposed action, to be developed and analyzed based on issues and management needs.

Canyon Fuel Company, LLC (Canyon Fuel) submitted an application for leasing of the Tract to the Bureau of Land Management on March 18, 1998. The purpose of the application is to obtain the right to mine the remaining Federal coal reserves to the west of the permit area for Canyon Fuel's Skyline Mine. If Canyon Fuel is successful in obtaining the tract, they intend to extend the existing underground workings of the Skyline Mine to the west into the Flat Canyon Tract to extend the mine life an estimated 7-9 years at the current production rate.

Pursuant to Canyon Fuel's application, the Bureau of Land Management, with participation from the Forest Service and State of Utah, completed a tract delineation report that set the boundaries of the tract to be evaluated for leasing (Uinta-Southwestern Utah Coal Region, Bureau of Land Management, Tract Delineation Report, Lease by Application UTU-77114, Canyon Fuel, 1999).

The Forest Service determined that the proposed lands are available for further consideration for coal leasing under the Land and Resource Management Plan (Forest Plan), Final EIS, and Record of Decision (ROD) for the MManti-La National Forest, 1986. The Bureau of Land Management (BLM) and Forest Service (FS) have determined that coal and environmental data are available to meet Uinta-Southwestern Utah Coal region Data Adequate Standards.

Agency Decisions

In accordance with the Mineral Leasing Act of 1920, as amended, the BLM Utah State Director must decide whether or not to offer the tract for competitive leasing and under what terms, conditions,and stipulations.

In accordance with the Coal Leasing Amendments Act of 1975 that amended the Mineral Leasing Act of 1920, the Forest Supervisor, Manti-La Sal National Forest must decide whether or not to consent to leasing by BLM and under what conditions for the protection of non-mineral resources. Forest Service conditions would be included into the lease document as stipulations.

DATES: Written comments concerning the scope of the analysis described in this notice should be received on or before April 18, 2000.

ADDRESSES: Send written comments to Forest Supervisor, Manti-La Sal National Forest, 599 West Price River Drive, Price, Utah 84501.

FOR FURTHER INFORMATION CONTACT: Questions concerning the proposed action and EIS should be addressed to carter Reed or Aaron Howe, Manti-LA Sal National Forest, phone (435) 637-2817.

SUPPLEMENTARY INFORMATION: The EIS and Record of Decision (ROD) will tier to the final EIS and ROD for the Mani-La Sal National Forest Land and Resource Management Plan (Forest Plan). The Forest Plan provides the overall guidance (Goals, Objectives, Standards, and Management Area Direction) to achieve the Desired Future Condition for the area being analyzed, and contains specific management area prescriptions for the entire Forest.

Issues and alternatives to be evaluated in the analysis will be determined through scoping. The primary issues are expected to include the socioeconomic benefits of leasing and mining, the potential impacts of underground mining and mining-induced subsidence to surface and ground water, vegetation, wildlife, cultural resources, range improvements, recreation, and other land uses.

The Forest Service and BLM are seeking information and comments from Federal, State, and local agencies as well as individuals and organizations who may be interested in, or affected by, the proposed action. The agencies invite written comments and suggestions on the issues related to the proposed action and the area being analyzed. Information received will be used to prepare the Draft and Final EIS and to make the respective agency decisions. For most effective use, comments would be submitted to the Forest Service within 30 days from the date of publication of this notice in the Federal Register. Preparation of the EIS will include the following steps:

1. Define the proposed action and purpose and need for action.

2. Identify potential issues.

3. Eliminate issues of minor importance or those that have been covered by previous and relevant environmental analyses.

4. Select issues to be analyzed in depth.

5. Identify reasonable alternatives to the proposed action.

6. Describe the affected environment.

7. Identify the potential environmental effects of the alternatives.

Steps 2, 3, and 4 will be completed through the scoping process.

Step 5 will consider a range of alternatives developed from the key issues and management needs. At a minimum, the “No Action” and “Proposed Action” alternatives will be analyzed. Other alternatives could involve modified tract boundaries (additions) and/or reductions) and different sets of lease stipulations for the protection of natural resources. Alternatives may also be developed to include analysis of mining and the existing adjacent lease area and additions to adjacent leases needed to prevent bypassing coal reserves.

Step 6 will describe the physical attributes of the area to be affected by this proposal, with special attention to the environmental factors that could be adversely affected.

Step 7 will analyze the environmental effects of each alternative. This analysis will be consistent with management direction outlined in the Forest Plan. The direct, indirect, and cumulative effects of each alternative will be analyzed and documented. In addition, the site-specific mitigation measures for each alternative will be identified and the effectiveness of these mitigation measures will be disclosed.

Agency representatives and other interested people are invited to visit with Forest Service and BLM officials at any time during the EIS process. Two specific time periods are identified for the receipt of formal comments on the analysis. The two comment period are, (1) during the scoping process, the next 30 days following publication of this Notice in the Federal Register, and (2) during the formal review period of the Draft EIS.

The Draft EIS is estimated to be filed with the Environmental Protection Agency (EPA) and available for public review in November, 2000. At that time the EPA will publish an availability notice in the Federal Register.

The comment period on the Draft EIS will be 45 days from the date that EPA's notice of availability appears in the Federal Register. It is very important that those interested in this proposed action participate at that time. To be the most helpful, comments on the Draft EIS should be as specific as possible and may address the adequacy of the statement or the merits of the alternatives discussed (See the Council of Environmental Quality Regulations for implementing the procedural provisions of the National Environmental Policy Act at 40 CFR 1503.3).

In addition, Federal court decisions have established that reviewers of draft environmental statements must structure their participation in the environmental review of the proposal so that it is meaningful and alerts an agency to the reviewer's position and contentions. Vermont Yankee Nuclear Power Corp. v. NRDC, 435 U.S. 519, 553 (1978). Environmental objections that could have been raised at the draft stage may be waived if not raised until after completion of the final environmental impact statement. City of Angoon v. Hodel, (19th Circuit, 1986) and Wisconsin Heritages, Inc. v. Harris, 490 F. Supp. 1334, 1338, (E.D. Wis. 1980). The reason for this is to ensure that substantive comments and objections are made available to the Forest Service at the time when it can meaningfully consider them and respond to them in the final document.

To assist the Forest Service in identifying and considering issues and concerns related to the proposed action, comments on the Draft EIS should be specific as possible. Referring to specific pages or chapters of the Draft EIS is most helpful. Comments may also address the adequacy of the Draft EIS or the merits of the alternatives formulated and discussed in the statement. Reviewers may wish to refer to the Council on Environmental Quality Regulations for implementing the procedural provisions of the National Environmental Policy Act, 40 CFR 1503.3, in addressing these points. The Final EIS is expected to be released in March, 2001.

The Forest Supervisor of the Manti-La Sal National Forest and Utah State Director of the Bureau of Land Management, who are the responsible officials for the EIS, will then make their respective decisions regarding this proposal, after considering the comments, Environmental Impact Statement, and applicable laws, regulations, and policies. The rationale for the respective agency decisions will be documented in the Records of Decision.

Authority: (Mineral Leasing Act of February 25, 1920 (P.L. 66-146, 41 Stat. 437, as amended; 30 U.S.C. 181-287))

Dated: March 7, 2000.
Jeff Walter,
Acting Forest Supervisor, Manti-La Sal National Forest.
Dated: March 8, 2000.
Richard L. Manus,
Field Office Manager, Bureau of Land Management, Price Field Office.

[FR Doc. 00-6150 Filed 3-16-00; 8:45 am]

BILLING CODE 3410-11-M